DEPARTMENT OF THE INTERIOR

Fish and Wildlife Service

[FWS-HQ-IA-2013-N228; FXIA16710900000-134-FF09A30000]

Advisory Council on Wildlife Trafficking

AGENCY: Fish and Wildlife Service, Interior.

ACTION: Notice of meeting.

SUMMARY: We, the U.S. Fish and Wildlife Service (Service), announce a public meeting of the Advisory Council on Wildlife Trafficking (Council).

DATES: The meeting will be held on Monday, October 21, 2013, from 11 a.m. to 5 p.m. (Eastern Time). Members of the public who want to participate in the meeting must notify Mr. Cade London by close of business on Monday, October 14, 2013. See additional instructions under SUPPLEMENTARY INFORMATION, Procedures for Public Input.

ADDRESSES: The meeting will be held at the U.S. Department of the Interior, South Interior Building Auditorium, 1951 Constitution Avenue NW., Washington, DC 20240.

FOR FURTHER INFORMATION CONTACT: Cade London, Special Assistant—USFWS International Affairs, by U.S. mail at 4401 North Fairfax Drive, Room 110, Arlington, VA 22203; by telephone at (703) 358-2584; by fax at (703) 358-2276; or by email at cade_london@fws.gov.

SUPPLEMENTARY INFORMATION: In accordance with the requirements of the Federal Advisory Committee Act (5 U.S.C. App.), we announce that the Advisory Council on Wildlife Trafficking (Council) will hold a meeting to discuss Committee Structure and Organization, the National Strategy to Combat Wildlife Trafficking, and other Council business as appropriate.

Background

Pursuant to E.O. 13648, the Advisory Council on Wildlife Trafficking was formed on August 30, 2013, to advise the Presidential Task Force on Wildlife Trafficking, through the Secretary of the Interior, on national strategies to combat wildlife trafficking, including, but not limited to (a) Effective support for anti-poaching activities; (b) Coordinating regional law enforcement efforts; (c) Developing and supporting effective legal enforcement mechanisms; and (d) Developing strategies to reduce illicit trade and consumer demand for illegally traded wildlife, including protected species.

The eight-member Council, appointed by the Secretary of the Interior, includes former senior leadership within the U.S. Government, as well as chief executive officers and board members from conservation organizations and the private sector. For more information on the Council and its members, visit http://www.fws.gov/international/advisory-council-wildlife-trafficking/.

Meeting Agenda

The Council will consider:

1. Advisory Council organization and process,

2. The National Strategy to Combat Wildlife Trafficking, and

3. Other Council business.

The final agenda will be posted on the Internet at http://www.fws.gov/international/advisory-council-wildlife-trafficking/.

Procedures for Public Input

Interested members of the public may submit relevant information for the Council to consider during the public meeting. Members of the public may register in advance to speak (by October 14, 2013), or they may submit written questions in advance for the Council to address during the meeting (by October 16, 2013). Nonregistered public speakers will not be considered during the meeting.

Individuals or groups who want to make an oral presentation at the meeting will be limited to 3 minutes per speaker, with no more than a total of 30 minutes for all speakers. Interested parties should contact Cade London, Special Assistant—International Affairs (preferably via email) by Monday, October 14, 2013, to be placed on the public speaker list (see FOR FURTHER INFORMATION CONTACT).

Registered speakers who wish to expand on their oral statements, or those who wanted to speak but could not be accommodated on the agenda, are invited to submit subsequent written statements to the Council after the meeting. Such written statements must be received by Mr. London, in writing (preferably via email) no later than October 28, 2013.

In order to attend this meeting, you must register by close of business Monday, October 14, 2013. Because entry to Federal buildings is restricted, all visitors must preregister to be admitted. Please submit your name, time of arrival, email address, and phone number to Cade London (see FOR FURTHER INFORMATION CONTACT).

Summary minutes of the conference will be maintained at 4401 N. Fairfax Drive, Room 110, Arlington, VA 22203, and on the Council Web site at http://www.fws.gov/international/advisory-council-wildlife-trafficking/, and will be available for public inspection during regular business hours within 30 days following the meeting.

Dated: September 25, 2013.
Rowan W. Gould,
Acting Director.

[FR Doc. 2013-23937 Filed 9-27-13; 8:45 am]

BILLING CODE 4310-55-P